DEPARTMENT OF HEALTH AND HUMAN SERVICES

National Advisory Committee on Children and Disasters and National Preparedness and Response Science Board Public Meetings

AGENCY: Department of Health and Human Services (HHS), Office of the Assistant Secretary for Preparedness and Response (ASPR).

ACTION: Notice.

SUMMARY: As stipulated by the Federal Advisory Committee Act, the Department of Health and Human Services is hereby giving notice that the National Advisory Committee on Children and Disasters (NACCD) and National Preparedness and Response Science Board (NPRSB) will hold public meetings on June 26-28, 2018.

DATES: The NPRSB Inauguration and Public Meeting is June 26, 2018, from 9:00 a.m. to 5:00 p.m. Eastern Daylight Time (EDT). The NPRSB and NACCD Joint Public Meeting is June 27, 2018, from 9:00 a.m. to 4:00 p.m. EDT. The NACCD Public Meeting is June 28, 2018, from 9:00 a.m. to 4:00 p.m. EDT. The meetings will be held in the O'Neill Building, 200 C Street SW, Washington, DC 20024.

ADDRESSES: We encourage members of the public to attend the public meetings. To register, send an email to naccd@hhs.gov with “NACCD Registration” in the subject line, or to nprsb@hhs.gov with “NPRSB Registration” in the subject line. Submit your comments to naccd@hhs.gov, nprsb@hhs.gov, the NPRSB Contact Form located at https://www.phe.gov/Preparedness/legal/boards/nprsb/Pages/RFNBSBComments.aspx, or the NACCD Contact Form located at https://www.phe.gov/Preparedness/legal/boards/naccd/Pages/contact.aspx. For additional information, visit the NACCD website located at https://www.phe.gov/naccd or the NPRSB website located at https://www.phe.gov/nprsb.

SUPPLEMENTARY INFORMATION: Pursuant to the Federal Advisory Committee Act of 1972 (5 U.S.C., Appendix, as amended), and Section 2811A of the Public Health Service (PHS) Act (42 U.S.C. 300hh-10a), as added by Section 103 of the Pandemic and All-Hazards Preparedness Reauthorization Act of 2013 (Pub. L. 113-5), the HHS Secretary, in consultation with the Secretary of the U.S. Department of Homeland Security, established the NACCD. The purpose of the NACCD is to provide advice and consultation to the HHS Secretary with respect to the medical and public health needs of children in relation to disasters.

The NPRSB is authorized under Section 319M of the PHS Act (42 U.S.C. 247d-7f), as added by Section 402 of the Pandemic and All-Hazards Preparedness Act of 2006 and amended by Section 404 of the Pandemic and All-Hazards Preparedness Reauthorization Act, and by Section 222 of the PHS Act (42 U.S.C. 217a). The Board is governed by the Federal Advisory Committee Act (5 U.S.C. App.), which sets forth standards for the formation and use of advisory committees. The NPRSB provides expert advice and guidance on scientific, technical, and other matters of special interest to the Department regarding current and future chemical, biological, nuclear, and radiological agents, whether naturally occurring, accidental, or deliberate.

Background: The June 26-28, 2018, public meetings of the NPRSB and the NACCD are dedicated to identifying key areas of analysis and recommendations for the NPRSB and the NACCD to advise the Assistant Secretary for Preparedness and Response (ASPR) and the HHS Secretary related to current key ASPR priorities of providing strong leadership in health response, advancing an innovative medical countermeasures enterprise, building regional disaster health response systems, and sustaining robust and reliable public health response capabilities. On June 26, the NPRSB will hold an inauguration for newly appointed Board members and formally thank Board members whose terms are ending for their service. There will also be a public meeting focused on enhancement of medical countermeasures, biodefense, and efforts to protect the U.S. from 21st century health threats. On June 27, the NPRSB and NACCD will hold a joint meeting focused on new and continuing collaborative work of the Advisory Committees. The focus will be on the Future Strategies Work Group joint effort to develop recommendations to best support successful achievement of the HHS and ASPR mission related to preparedness, response, and recovery from 21st century health threats. On June 28, the NACCD will hold a public meeting dedicated to the NACCD's continuing work to improve outcomes for children and youth in disasters and public health emergencies. The focus will be upon pediatric care systems within regional disaster health response systems and opportunities for capacity-building and leveraging existing strengths for pediatric surge capacity in large-scale emergency events. We will post modifications to the agenda on the NACCD and NPRSB meeting websites, which are located at https://www.phe.gov/naccd and https://www.phe.gov/nprsb.

Availability of Materials: We will post all meeting materials prior to the meeting on June 26, 2018, at the websites located at https://www.phe.gov/naccd and https://www.phe.gov/nprsb.

Procedures for Providing Public Input: Members of the public may attend the public meetings in person or via a toll-free call-in phone number, which is available on the NACCD and the NPRSB websites at https://www.phe.gov/naccd or https://www.phe.gov/nprsb.

We encourage members of the public to provide written comments that are relevant to the NACCD and NPRSB public meetings prior to June 26, 2018. Send written comments by email to naccd@hhs.gov with “NACCD Public Comment” in the subject line or to nprsb@hhs.gov with “NPRSB Public Comment” in the subject line. The NACCD and NPRSB Chairs will respond to comments received by June 25, 2018, during the public meeting.

Dated: May 7, 2018.
Robert P. Kadlec,
Assistant Secretary for Preparedness and Response.

[FR Doc. 2018-10212 Filed 5-11-18; 8:45 am]

BILLING CODE P